DEPARTMENT OF TRANSPORTATION

Federal Highway Administration

23 CFR Part 470

[FHWA Docket No. FHWA-2011-0003]

RIN 2125-AF35

Highway Systems; Technical Correction

AGENCIES: Federal Highway Administration (FHWA), Department of Transportation (DOT).

ACTION: Final rule.

SUMMARY: This rule makes a technical correction to the regulations that govern the designation of routes on the National Highway System and the Dwight D. Eisenhower System of Interstate and Defense Highways. The amendments contained herein make no substantive changes to FHWA regulations, policies, or procedures. The current regulation references a section of Title 23 of the United States Code that was later repealed by section 1106(c)(2)(A) of the Transportation Efficiency Act for the 21st Century (Pub. L. 105-178). This rule also corrects outdated and incorrect directions for obtaining publications referenced in the regulatory text. This rule also corrects to 25 years the time period that routes designated by agreement as future Interstate routes must be constructed to meet Interstate Highway System standards. Finally, this rule corrects references to FHWA offices that are involved in reviewing and approving Interstate designation requests, due to Agency reorganizations.

DATES: This rule is effective March 10, 2011.

FOR FURTHER INFORMATION CONTACT: Stefan Natzke, National Systems and Economic Development Team, (202) 366-5010; or Robert Black, Office of the Chief Counsel, (202) 366-1359; Both are located at 1200 New Jersey Avenue, SE., Washington, DC 20590. Office hours for FHWA are from 8 a.m. to 4:30 p.m., e.t., Monday through Friday, except Federal holidays.

SUPPLEMENTARY INFORMATION:

Electronic Access

An electronic copy of this document may be downloaded by accessing the Office of the Federal Register's home page at: http://www.archives.gov or the Government Printing Office's Web page at: http://www.gpoaccess.gov/nara.

Background

This rulemaking makes technical corrections to the regulations that govern policies and procedures relating to the designation of routes on the Interstate Highway System found at 23 CFR 470. In its final rule published in the Federal Register on June 19, 1997, at 62 FR 33355, the FHWA referenced 23 U.S.C. 139, which at that time governed “Additions to the Interstate.” Section 1106(c)(2)(A) of the Transportation Equity Act for the 21st Century, enacted in 1998, repealed that section and inserted revised language governing Interstate additions at 23 U.S.C. 103(c). Furthermore, the Safe, Accountable, Flexible, Efficient Transportation Equity Act: A Legacy for Users (SAFETEA-LU) (Pub. L. 109-59) inserted provisions related to efficient environmental reviews at 23 U.S.C. 139. As such, references in 23 CFR 470 to section 139 causes confusion. These amendments will direct readers of this section to the proper section of the U.S. Code. This rule also corrects outdated and incorrect directions for obtaining publications referenced in the regulatory text. It also extends to 25 years the time period that routes designated by agreement as future Interstate routes must be constructed to meet Interstate Highway System standards as provided by 23 U.S.C. 103(c)(4)(B)(ii). Section 1106(a) of SAFETEA-LU (Pub. L. 109-59), enacted in 2005, extended the construction deadline from 12 to 25 years. The amended rule will reflect this statutory extension. Finally, this rule corrects references to FHWA offices that are involved in reviewing and approving Interstate designation requests, due to Agency reorganizations.

Rulemaking Analyses and Notice

Under the Administrative Procedure Act (5 U.S.C. 553(b)), an agency may waive the normal notice and comment requirements if it finds, for good cause, that they are impracticable, unnecessary, or contrary to the public interest. The FHWA finds that notice and comment for this rule is unnecessary and contrary to the public interest because it will have no substantive impact, is technical in nature, and relates only to management, organization, procedure, and practice. The amendments to the rule are based upon the explicit language of statutes that were enacted subsequent to the promulgation of the rule. The FHWA does not anticipate receiving meaningful comments on it. States, local governments, transit agencies, and their consultants rely upon the environmental regulations corrected by this action. These corrections will reduce confusion for these entities and should not be unnecessarily delayed. Accordingly, for the reasons listed above, the agencies find good cause under 5 U.S.C. 553(b)(3)(B) to waive notice and opportunity for comment.

Executive Order 12866 (Regulatory Planning and Review) and DOT Regulatory Policies and Procedures

The FHWA has determined that this action is not a significant regulatory action within the meaning of Executive Order 12866 or significant within the meaning of DOT regulatory policies and procedures. It is anticipated that the economic impact of this rulemaking will be minimal. This rule only entails minor corrections that will not in any way alter the regulatory effect of 23 CFR part 470. Thus, this final rule will not adversely affect, in a material way, any sector of the economy. In addition, these changes will not interfere with any action taken or planned by another agency and will not materially alter the budgetary impact of any entitlements, grants, user fees, or loan programs.

Regulatory Flexibility Act

In compliance with the Regulatory Flexibility Act (Pub. L. 96-354, 5 U.S.C. 601-612) FHWA has evaluated the effects of this action on small entities and has determined that the action will not have a significant economic impact on a substantial number of small entities. This final rule will not make any substantive changes to our regulations or in the way that our regulations affect small entities; it merely corrects technical errors. For this reason, the FHWA certifies that this action will not have a significant economic impact on a substantial number of small entities.

Unfunded Mandates Reform Act of 1995

This rule does not impose unfunded mandates as defined by the Unfunded Mandates Reform Act of 1995 (Pub. L. 104-4, March 22, 1995, 109 Stat. 48). This rule does not impose any requirements on State, local, or tribal governments, or the private sector and, thus, will not require those entities to expend any funds.

Executive Order 13132 (Federalism)

This action has been analyzed in accordance with the principles and criteria contained in Executive Order 13132, and FHWA has determined that this action does not have sufficient federalism implications to warrant the preparation of a federalism assessment. The FHWA has also determined that this action does not preempt any State law or State regulation or affect the States' ability to discharge traditional State governmental functions.

Executive Order 12372 (Intergovernmental Review)

The regulations implementing Executive Order 12372 regarding intergovernmental consultation on Federal programs and activities apply to these programs.

Paperwork Reduction Act

This action does not create any new information collection requirements for which a Paperwork Reduction Act submission to the Office of Management and Budget would be needed under the Paperwork Reduction Act of 1995, 44 U.S.C. 3501-3520.

National Environmental Policy Act

The FHWA has analyzed this action for the purpose of the National Environmental Policy Act of 1969 (42 U.S.C. 4321-4347) and has determined that this action will not have any effect on the quality of the environment.

Executive Order 13175 (Tribal Consultation)

The FHWA has analyzed this action under Executive Order 13175, dated November 6, 2000, and concluded that this rule will not have substantial direct effects on one or more Indian tribes; will not impose substantial direct compliance costs on Indian tribal government; and will not preempt tribal law. There are no requirements set forth in this rule that directly affect one or more Indian tribes. Therefore, a tribal summary impact statement is not required.

Executive Order 12988 (Civil Justice Reform)

This rule meets applicable standards in sections 3(a) and 3(b)(2) of Executive Order 12988, Civil Justice Reform, to minimize litigation, eliminate ambiguity, and reduce burden.

Executive Order 13045 (Protection of Children)

Under Executive Order 13045, Protection of Children from Environmental Health and Safety Risks, this final rule is not economically significant and does not involve an environmental risk to health and safety that may disproportionally affect children.

Executive Order 12630 (Taking of Private Property)

This final rule will not effect a taking of private property or otherwise have taking implications under Executive Order 12630, Governmental Actions and Interference with Constitutionally Protected Property Rights.

Executive Order 13211 (Energy Effects)

This final rule has been analyzed under Executive Order 13211, Actions Concerning Regulations That Significantly Affect Energy Supply, Distribution, or Use. The FHWA has determined that it is not a significant energy action under that order because it is not a significant regulatory action under Executive Order 12866 and this final rule is not likely to have a significant adverse effect on the supply, distribution, or use of energy.

Regulation Identification Number

A regulation identification number (RIN) is assigned to each regulatory action listed in the Unified Agenda of Federal Regulations. The Regulatory Information Service Center publishes the Unified Agenda in April and October of each year. The RINs contained in the heading of this document can be used to cross reference this action with the Unified Agenda.

List of Subjects in 23 CFR Part 470

Highways and roads, Reporting and recordkeeping requirements.

Issued on: February 1, 2011.
Victor M. Mendez,
Administrator.

In consideration of the foregoing, 23 CFR part 470 is amended as set forth below.

PART 470—HIGHWAY SYSTEMS

1. Revise the authority citation for part 470 to read as follows:

Authority: 23 U.S.C. 103(b)(2), 103(c), 134, 135, and 315; and 49 CFR 1.48(b).

Subpart A—[Amended]

2. Amend § 470.105 by revising the last sentence of paragraph (a), the second sentence of paragraph (b)(1), and footnote 1 to read as follows:

§ 470.105 Urban area boundaries and highway functional classification.

(a) * * * Guidance for determining the boundaries of urbanized and nonurbanized urban areas is provided in the FHWA's Functional Classification Guidelines.¹

(b) * * * (1) * * * Guidance criteria and procedures are provided in the FHWA's Functional Classification Guidelines.

* * * * *

¹ The Functional Classification Guidelines can be viewed at http://www.fhwa.dot.gov/planning/fctoc.htm.

3. Amend § 470.107(a)(2) by removing the reference “23 U.S.C. 103(e)(1), (e)(2), and (e)(3)” and adding in its place, the reference “23 U.S.C. 103(c)(1)(D)(2)”, and by removing the reference “23 U.S.C. 139(a) and (c)” and adding, in its place, the reference “23 U.S.C. 103(c)(4).”

4. Amend § 470.111 as follows:

A. By revising paragraph (b).

B. By removing paragraph (c), and redesignating paragraphs (d) through (f) as paragraphs (c) through (e).

C. By amending redesignated paragraph (e) by removing the reference “23 U.S.C. 139” and adding, in its place, the reference “23 U.S.C. 103(c)”. The revision reads as follows:

§ 470.111 Interstate System procedures.

* * * * *

(b) Proposals for Interstate or future Interstate designation under 23 U.S.C. 103(c)(4)(A) or (B), as logical additions or connections, shall consider the criteria contained in appendix A of this subpart. For designation as a part of the Interstate system, 23 U.S.C. 103(c)(4)(A) requires that a highway meet all the standards of a highway on the Interstate System, be a logical addition or connection to the Interstate System, and have the affirmative recommendation of the State or States involved. For designation as a future part of the Interstate System, 23 U.S.C. 103(c)(4)(B) requires that a highway be a logical addition or connection to the Interstate System, have the affirmative recommendation of the State or States involved, and have the written agreement of the State or States involved that such highway will be constructed to meet all the standards of a highway on the Interstate System within twenty-five years of the date of the agreement between the FHWA Administrator and the State or States involved. Such highways must also be on the National Highway System.

* * * * *

5. Amend Appendix A to Subpart A of Part 470 as follows:

A. By revising the appendix heading.

B. By amending the introductory paragraph by removing the words “Section 139(a) and (b)” and adding, in their place the words “Section 103(c)(4)(A) and (B)”, and removing the reference “23 U.S.C. 139” and adding, in its place, the reference “23 U.S.C. 103(c)”.

C. By amending paragraph 5 by removing the number “12” and adding, in its place, the number “25”.

D. By amending paragraph 6 by removing the reference “23 U.S.C. 139(b)” and add, in its place, the reference “23 U.S.C. 103(c)(4)(B)”. The revision reads as follows:

Appendix A to Subpart A of Part 470—Guidance Criteria for Evaluating Requests for Interstate System Designations under 23 U.S.C. 103(c)(4)(A) and (B)

* * * * *

Appendix B to Subpart A of Part 470—[AMENDED]

6. Amend Appendix B to Subpart A of Part 470 as follows:

A. By amending the introductory paragraph by removing the reference “23 U.S.C. 139(a)” and adding, in its place, the reference “23 U.S.C. 103(c)(4)(A)”.

B. By amending paragraph 1 by removing the words “and Regional Offices” and add, in their place, the words “Office” in each place it appears.

Appendix C to Subpart A of Part 470—POLICY FOR THE SIGNING AND NUMBERING OF FUTURE INTERSTATE CORRIDORS DESIGNATED BY SECTION 332 OF THE NHS DESIGNATION ACT OF 1995 OR DESIGNATED UNDER 23 U.S.C. 139(b) [AMENDED]

7. Amend Appendix C to Subpart A of Part 470 as follows:

A. By revising the appendix heading.

B. By amending Conditions paragraph 1 by removing the reference “23 U.S.C. 139(b)” and adding, in its place, the reference “23 U.S.C. 103(c)(4)(B)”.

C. By amending Conditions paragraph 6 by removing the word “Regional”, and adding, in its place, the word “Division”.

The revision reads as follows:

Appendix C to Subpart A of Part 470—POLICY FOR THE SIGNING AND NUMBERING OF FUTURE INTERSTATE CORRIDORS DESIGNATED BY SECTION 332 OF THE NHS DESIGNATION ACT OF 1995 OR DESIGNATED UNDER 23 U.S.C. 103(c)(4)(B)

* * * * *

[FR Doc. 2011-2693 Filed 2-7-11; 8:45 am]

BILLING CODE 4910-22-P